DEPARTMENT OF COMMERCE

International Trade Administration

[A-570-044]

1, 1, 1, 2-Tetrafluoroethane From the People's Republic of China: Initiation of Less Than Fair Value Investigation

AGENCY: Enforcement and Compliance, International Trade Administration, Department of Commerce.

DATES: Effective Date: March 23, 2016.

FOR FURTHER INFORMATION CONTACT: Keith Haynes at (202) 482-5139, AD/CVD Operations, Enforcement and Compliance, U.S. Department of Commerce, 14th Street and Constitution Avenue NW., Washington, DC 20230.

SUPPLEMENTARY INFORMATION:

The Petition

On March 3, 2016, the Department of Commerce (“Department”) received an antidumping duty (“AD”) petition concerning imports of 1,1,1,2-Tetrafluoroethane (“R-134a”) from the People's Republic of China (“PRC”), filed in proper form on behalf of the American HFC Coalition and its individual members,¹ as well as District Lodge 154 of the International Association of Machinists and Aerospace Workers (“IAMAW”) (collectively, “Petitioners”).²

¹ The individual members of the American HFC Coalition are: Amtrol Inc., Arkema Inc., The Chemours Company FC LLC, Honeywell International Inc., Hudson Technologies, Mexichem Fluor Inc., and Worthington Industries, Inc.

² See Petition for the Imposition of Antidumping Duties on Imports of 1, 1, 1, 2-Tetrafluoroethane (R-134a) from the People's Republic of China, dated March 3, 2016 (“Petition”).

On March 8, 2016, the Department requested additional information and clarification of certain areas of the Petition.³ Petitioners submitted the requested information and clarification to the Department on March 11, 2016.⁴

³ See the Department's letter to Petitioners, “Petition for the Imposition of Antidumping Duties on Imports of 1,1,1,2-Tetrafluoroethane (R-134a) from the People's Republic of China: Supplemental Questions,” dated March 8, 2016 (“Supplemental Questionnaire”).

⁴ See Petitioners' response, “Petitioners' Response to the Department's March 8, 2016 Supplemental Questionnaire,” dated March 11, 2016 (“Petition Supplement”).

In accordance with section 732(b) of the Tariff Act of 1930, as amended (“the Act”), Petitioners alleged that imports of R-134a from the PRC are being, or are likely to be, sold in the United States at less than fair value within the meaning of section 731 of the Act, and that such imports are materially injuring, or threatening material injury to, an industry in the United States. Also, consistent with section 732(b)(1) of the Act, the Petition is accompanied by information reasonably available to Petitioners supporting their allegations.

The Department finds that Petitioners filed the Petition on behalf of the domestic industry because Petitioners are interested parties as defined in sections 771(9)(C),(D), and (F) of the Act. The Department also finds that Petitioners demonstrated sufficient industry support with respect to the initiation of the AD investigation that Petitioners are requesting.⁵

⁵ See the “Determination of Industry Support for the Petition” section, below.

Period of Investigation

Pursuant to 19 CFR 351.204(b)(1), because the Petition was filed on March 3, 2016, the period of investigation (“POI”) is July 1, 2015 through December 31, 2015.

Scope of the Investigation

The product covered by this investigation is R-134a from the PRC. For a full description of the scope of this investigation, see the “Scope of the Investigation” in Appendix I of this notice.

Comments on Scope of the Investigation

During our review of the Petition, the Department issued questions to, and received responses from, Petitioners pertaining to the proposed scope to ensure that the scope language in the Petition would be an accurate reflection of the products for which the domestic industry is seeking relief.⁶

⁶ See Supplemental Questionnaire and Petition Supplement.

As discussed in the preamble to the Department's regulations,⁷ we are setting aside a period for interested parties to raise issues regarding product coverage (scope). The Department will consider all comments received from parties and, if necessary, will consult with parties prior to the issuance of the preliminary determination. If scope comments include factual information (see 19 CFR 351.102(b)(21)), all such factual information should be limited to public information. In order to facilitate preparation of its questionnaires, the Department requests all interested parties to submit such comments by 5:00 p.m. Eastern Time (“ET”) on Tuesday, April 12, 2016, which is 20 calendar days from the signature date of this notice. Any rebuttal comments, which may include factual information, must be filed by 5:00 p.m. ET on Friday, April 22, 2016, which is 10 calendar days after the initial comments deadline.

⁷ See Antidumping Duties; Countervailing Duties, 62 FR 27296, 27323 (May 19, 1997).

The Department requests that any factual information the parties consider relevant to the scope of the investigation be submitted during this time period. However, if a party subsequently finds that additional factual information pertaining to the scope of the investigation may be relevant, the party may contact the Department and request permission to submit the additional information.

Filing Requirements

All submissions to the Department must be filed electronically using Enforcement and Compliance's Antidumping and Countervailing Duty Centralized Electronic Service System (“ACCESS”).⁸ An electronically filed document must be received successfully in its entirety by the time and date when it is due. Documents excepted from the electronic submission requirements must be filed manually (i.e., in paper form) with Enforcement and Compliance's APO/Dockets Unit, Room 18022, U.S. Department of Commerce, 14th Street and Constitution Avenue NW., Washington, DC 20230, and stamped with the date and time of receipt by the applicable deadlines.

⁸ See Antidumping and Countervailing Duty Proceedings: Electronic Filing Procedures; Administrative Protective Order Procedures, 76 FR 39263 (July 6, 2011); see also Enforcement and Compliance; Change of Electronic Filing System Name, 79 FR 69046 (November 20, 2014) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department requests comments from interested parties regarding the appropriate physical characteristics of R-134a to be reported in response to the Department's AD questionnaires. This information will be used to identify the key physical characteristics of the subject merchandise in order to report the relevant factors and costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe R-134a, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all comments must be filed by 5:00 p.m. ET on Tuesday, April 12, 2016, which is twenty calendar days from the signature date of this notice. Any rebuttal comments must be filed by 5:00 p.m. ET on Tuesday, April 19, 2016, which is seven calendar days from the initial comments deadline. All comments and submissions to the Department must be filed electronically using ACCESS, as explained above, on the record of this investigation.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (“ITC”), which is responsible for determining whether “the domestic industry” has been injured, must also determine what constitutes a domestic like product in order to define the industry. While both the Department and the ITC must apply the same statutory definition regarding the domestic like product,⁹ they do so for different purposes and pursuant to a separate and distinct authority. In addition, the Department's determination is subject to limitations of time and information. Although this may result in different definitions of the like product, such differences do not render the decision of either agency contrary to law.¹⁰

⁹ See section 771(10) of the Act.

¹⁰ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petition).

With regard to the domestic like product, Petitioners do not offer a definition of the domestic like product distinct from the scope of the investigation. Based on our analysis of the information submitted on the record, we have determined that R-134a, as defined in the scope, constitutes a single domestic like product and we have analyzed industry support in terms of that domestic like product.¹¹

¹¹ For a discussion of the domestic like product analysis in this case, see the Department's memorandum, “Antidumping Duty Investigation Initiation Checklist: 1,1,1,2-Tetrafluoroethane from the People's Republic of China,” (“Initiation Checklist”) at Attachment II, Analysis of Industry Support for the Antidumping Duty Petition Covering 1,1,1,2-Tetrafluoroethane from the People's Republic of China (“Attachment II”). This checklist is dated concurrently with this notice and on file electronically via ACCESS. Access to documents filed via ACCESS is also available in the Central Records Unit, Room B8024 of the main Department of Commerce building.

In determining whether Petitioners have standing under section 732(c)(4)(A) of the Act, we considered the industry support data contained in the Petition with reference to the domestic like product as defined in the “Scope of the Investigation,” in Appendix I of this notice. To establish industry support, Petitioners provided the 2015 production of the domestic like product by the members of the American HFC Coalition that produce R-134a in the United States (Arkema Inc., The Chemours Company FC LLC, and Mexichem Fluor Inc.).¹² Petitioners state that these three companies are the only known producers of R-134a in the United States; therefore, the Petition is supported by 100 percent of the U.S. industry.¹³

¹² See Petition, at 7.

¹³ Id., at 7 and Exhibit I-1 (1,1,1,2-Tetrafluoroethane from China, Inv. Nos. 701-TA-509 and 731-TA-1244 (Final), USITC Pub. 4503 (December 2014), at 3 and III-1 through III-2).

Our review of the data provided in the Petition and other information readily available to the Department indicates that Petitioners have established industry support.¹⁴ First, the Petition established support from domestic producers (or workers) accounting for more than 50 percent of the total production of the domestic like product and, as such, the Department is not required to take further action in order to evaluate industry support (e.g., polling).¹⁵ Second, the domestic producers (or workers) have met the statutory criteria for industry support under section 732(c)(4)(A)(i) of the Act because the domestic producers (or workers) who support the Petition account for at least 25 percent of the total production of the domestic like product.¹⁶ Finally, the domestic producers (or workers) have met the statutory criteria for industry support under section 732(c)(4)(A)(ii) of the Act because the domestic producers (or workers) who support the Petition account for more than 50 percent of the production of the domestic like product produced by that portion of the industry expressing support for, or opposition to, the Petition.¹⁷ Accordingly, the Department determines that the Petition was filed on behalf of the domestic industry within the meaning of section 732(b)(1) of the Act.

¹⁴ See Initiation Checklist, at Attachment II.

¹⁵ See section 732(c)(4)(D) of the Act; see also Initiation Checklist, at Attachment II.

¹⁶ See Initiation Checklist, at Attachment II.

¹⁷ Id.

The Department finds that Petitioners filed the Petition on behalf of the domestic industry because they are interested parties as defined in sections 771(9)(C), (D), and (F) of the Act and they have demonstrated sufficient industry support with respect to the AD investigation that they are requesting the Department initiate.¹⁸

¹⁸ Id.

Allegations and Evidence of Material Injury and Causation

Petitioners allege that the U.S. industry producing the domestic like product is being materially injured, or is threatened with material injury, by reason of the imports of the subject merchandise sold at less than normal value (“NV”). In addition, Petitioners allege that subject imports exceed the negligibility threshold provided for under section 771(24)(A) of the Act.¹⁹

¹⁹ See Petition, at 25 and Exhibit II-1A.

Petitioners contend that the industry's injured condition is illustrated by reduced market share, underselling and price suppression or depression, adverse impact on capacity, capacity utilization, and employment, decline in shipments and output, negative impact on sales revenues and operating profits, and lost sales and revenues.²⁰ We have assessed the allegations and supporting evidence regarding material injury, threat of material injury, and causation, and we have determined that these allegations are properly supported by adequate evidence and meet the statutory requirements for initiation.²¹

²⁰ Id., at 2-5, 17-19, 25-45 and Exhibits II-1 and II-3 through II-13.

²¹ See Initiation Checklist, at Attachment III, “Analysis of Allegations and Evidence of Material Injury and Causation for the Antidumping Duty Petition Covering 1,1,1,2-Tetrafluoroethane (R-134a) from the People's Republic of China.”

Allegations of Sales at Less Than Fair Value

The following is a description of the allegations of sales at less-than-fair value upon which the Department based its decision to initiate an investigation of imports of R-134a from the PRC. The sources of data for the deductions and adjustments relating to U.S. price and NV are discussed in greater detail in the Initiation Checklist.

Export Price

Petitioners based export price (“EP”) on several sources in order to reflect the various packaging of R-134a.²² First, Petitioners used price lists distributed to the service and replacement market by suppliers of Chinese R-134a.²³ Second, Petitioners relied on specific competitive quotes for sales in the U.S. market, by suppliers of the Chinese product that resulted in lost sales.²⁴ Third, the Petitioners relied on average unit values of R-134a imports from the PRC for the POI, based on official U.S. import statistics obtained from the ITC's DataWeb for the relevant HTSUS subheading for R-134a (HTSUS 2903.39.2020).²⁵ Fourth, Petitioners relied on internet price offers from suppliers in the PRC for the sale of merchandise to a U.S. customer during the period of investigation.²⁶ Finally, Petitioners relied upon trade statistics obtained from a proprietary source.²⁷ Where applicable, Petitioners made adjustments to the prices for cost, insurance, and freight charges and sales commissions/sales mark-ups.²⁸

²² For further discussion regarding the prices used as the basis for export price, see Initiation Checklist.

²³ See Petition, at 54 and Exhibits II-6 and III-20; see also Petition Supplement, at 2-3 and Exhibit 2 and 7.

²⁴ See Petition, at 54 and Exhibits II-10 and III-20; see also Petition Supplement, at 2 and Exhibits 1, 2, and 7.

²⁵ See Petition, at 54-55 and Exhibit III-18 and III-20; see also Petition Supplement, at Exhibit 7.

²⁶ See Petition, at 54-55 and Exhibits III-19 and III-20; see also Petition Supplement, at 3 and Exhibit 7.

²⁷ See Petition Supplement, at Exhibit 2. Whereas Petitioners' initial margin calculations used the price average for only one month of this data, consistent with Department's past practice with respect to using average unit value data as the basis for U.S. price is to rely on data for the entire POI (or as many months of the POI as were available at the time the Petition was filed), we have recalculated Petitioners' submitted price using average unit values for the full POI. See Attachment V to the Initiation Checklist.

²⁸ See Petition, at 55-56 and Exhibits III-6, III-18, and III-20; see also Petition Supplement, at Exhibit 7.

Normal Value

Petitioners note that, for purposes of the antidumping statute, the Department treats the PRC as a nonmarket economy (“NME”) country.²⁹ In accordance with section 771(18)(C)(i) of the Act, the presumption of NME status remains in effect until revoked by the Department. The NME status for the PRC has not been revoked by the Department and, therefore, remains in effect for purposes of the initiation of this investigation. Accordingly, the NV of the product is appropriately based on factors of production (“FOPs”) valued in a surrogate market economy country, in accordance with section 773(c) of the Act. In the course of this investigation, all parties, and the public, will have the opportunity to provide relevant information related to the issues of the PRC's NME status and the granting of separate rates to individual exporters.

²⁹ See Petition, at 46.

Petitioners claim that Mexico is an appropriate surrogate country because it is a market economy that is at a level of economic development comparable to that of the PRC, it is a significant producer of comparable merchandise, and reliable surrogate factor data for Mexico are available.³⁰

³⁰ Id., at 47-49 and Exhibits III-1 through III-4.

Based on the information provided by Petitioners, we consider it appropriate to use Mexico as the surrogate country for initiation purposes. Interested parties will have the opportunity to submit comments regarding surrogate country selection and, pursuant to 19 CFR 351.301(c)(3)(i), will be provided an opportunity to submit publicly available information to value FOPs within 30 days before the scheduled date of the preliminary determination.

Factors of Production

Petitioners based the FOPs for materials, labor, and energy on the production experience of a domestic producer of R-134a, as they did not have access to the consumption rates of PRC producers of R-134a.³¹ Petitioners state that the domestic producer's production process is the same as that of the Chinese producers.³² Petitioners estimated FOPs for the purposes of calculating NV using surrogate prices sourced from Mexican import data, as applied to the domestic producer's reported factor usage rates.³³

³¹ Id., at 50 and Exhibit II-6; see also Petition Supplement, at 4-5 and Exhibit 3.

³² See Petition, at 50 and Exhibit II-12.

³³ Id., at 50 and Exhibit III-7

Valuation of Raw Materials

For direct materials, Petitioners valued these inputs based on publicly available Mexican import data obtained from the Global Trade Atlas (“GTA”) for the period covering June 2015 through November 2015, the most recent POI-contemporaneous data available at the time the Petition was filed.³⁴ Petitioners excluded all import data from countries previously determined by the Department to maintain broadly available, non-industry-specific export subsidies, as well as countries previously determined by the Department to be NME countries.³⁵ In addition, in accordance with the Department's practice, Petitioners excluded imports that were labeled as originating from an unidentified country.³⁶ To calculate a surrogate value for anhydrous hydrogen fluoride, Petitioners excluded July 2015 imports from Germany from the full dataset for Mexican imports under HTS 2911.11.01 (“hydrogen fluoride (hydrofluoric acid), technical grade”), which they contend to be aberrational.³⁷ Petitioners converted the GTA import values from Mexican pesos to U.S. dollars using the POI-average exchange rate.³⁸

³⁴ Id., at 50-51 and Exhibit III-8.

³⁵ Id., at 51.

³⁶ Id., at Exhibit III-8.

³⁷ Id., at 51-52 and Exhibits III-11 and III-12; see also Petition Supplement, at 5-6 and Exhibit 4 .

³⁸ See Petition, at 51; see also Petition Supplement, at 6 and Exhibits 5 and 6.

Valuation of Labor

Petitioners valued labor using data specific to the “manufacture of other chemical products (ISIC-Rev.3)” in Mexico published by the International Labor Organization (“ILO”).³⁹ Specifically, Petitioners based their calculations on 2008 Mexico ILO data for labor, which they inflated to be contemporaneous with the POI and converted from Mexican pesos to U.S. dollars using the POI exchange rate.⁴⁰

³⁹ See Petition, at 53 and Exhibit III-14.

⁴⁰ Id., at Exhibit III-8; see also Petition Supplement, at Exhibit 6.

Valuation of Packing Materials

Petitioners valued packing inputs using Mexican GTA import data for the period covering June 2015 to November 2015.⁴¹

⁴¹ See Petition, at Exhibit III-14.

Valuation of Energy

Petitioners calculated consumption rates for electricity based on the production experience of a domestic producer.⁴² Petitioners valued electricity based on published data by the International Energy Agency (“IEA”) for the most recent period for which data are available, i.e., April 2015—September 2015.⁴³ Petitioners converted the electricity rates from Mexican pesos per kilowatt hour into U.S. dollars per kilowatt hour.⁴⁴ Additionally, Petitioners calculated consumption rates of natural gas based on the production experience of a domestic producer.⁴⁵ Petitioners converted the natural gas consumption rate calculation from a million BTU to a kilogram basis and then converted the natural gas rates from Mexican pesos into U.S. dollars.⁴⁶

⁴² Id., at 52 and Exhibit III-13.

⁴³ Id.

⁴⁴ Id., at 53; see also Petition Supplement, at Exhibit 6.

⁴⁵ See Petition, at Exhibit III-5.

⁴⁶ Id., at Exhibit III-6.

Valuation of Factory Overhead, Selling, General and Administrative Expenses, and Profit

Petitioners calculated surrogate financial ratios (i.e., manufacturing overhead, selling, general and administrative expenses, and profit) based on the 2014 financial statements of Mexichem S.A.B. de C.V., a producer of hydrogen fluoride (the major raw material used in R-134a production) in Mexico, and CYDSA, whose subsidiary company—Quimobasicos S.A. de C.V—produces comparable merchandise (R-22) in Mexico.⁴⁷

⁴⁷ Id., at 53-54 and Exhibits III-15 through III-17.

Fair Value Comparisons

Based on the data provided by Petitioners, there is reason to believe that imports of R-134a from the PRC are being, or are likely to be, sold in the United States at less than fair value. Based on comparisons of EP to NV, in accordance with section 773(c) of the Act, the estimated dumping margins for R-134a from the PRC range from 153.68 to 220.87 percent.⁴⁸

⁴⁸ See Petition Supplement, at 7 and Exhibit 7; see also Initiation Checklist, at Attachment V “Revised Margin Calculation”.

Initiation of Less-Than-Fair-Value Investigation

Based upon the examination of the AD Petition on R-134a from the PRC, we find that the Petition meets the requirements of section 732 of the Act. Therefore, we are initiating an AD investigation to determine whether imports of R-134a from the PRC are being, or are likely to be, sold in the United States at less than fair value. In accordance with section 733(b)(1)(A) of the Act and 19 CFR 351.205(b)(1), unless postponed, we will make our preliminary determinations no later than 140 days after the date of this initiation.

On June 29, 2015, the President of the United States signed into law the Trade Preferences Extension Act of 2015, which made certain amendments to the AD and CVD law.⁴⁹ The 2015 law does not specify dates of application for those amendments. On August 6, 2015, the Department published an interpretative rule, in which it announced the applicability dates for each amendment to the Act, except for amendments contained in section 771(7) of the Act, which relate to determinations of material injury by the ITC.⁵⁰ The amendments to sections 771(15), 773, 776, and 782 of the Act are applicable to all determinations made on or after August 6, 2015, and, therefore, apply to this AD investigation.⁵¹

⁴⁹ See Trade Preferences Extension Act of 2015, Pub. L. 114-27, 129 Stat. 362 (2015).

⁵⁰ See Dates of Application of Amendments to the Antidumping and Countervailing Duty Laws Made by the Trade Preferences Extension Act of 2015, 80 FR 46793 (August 6, 2015).

⁵¹ Id., at 46794-95. The 2015 amendments may be found at: https://www.congress.gov/bill/114th-congress/house-bill/1295/text/pl.

Respondent Selection

Petitioners named thirty-three companies from the PRC as producers/exporters of R-134a.⁵² Consistentwith our practice for respondent selection in cases involving NME countries, we intend to issue quantity and value (“Q&V”) questionnaires to potential respondents and base respondent selection on the responses received. In addition, the Department will post the Q&V questionnaire along with filing instructions on the Enforcement and Compliance Web site at http://www.trade.gov/enforcement/news.asp.

⁵² See Petition, at 17 and Exhibit I-9.

Exporters/producers of R-134a from the PRC that do not receive Q&V questionnaires by mail may still submit a response to the Q&V questionnaire and can obtain a copy from the Enforcement and Compliance Web site. The Q&V response must be submitted by the relevant PRC exporters/producers no later than April 6, 2016, which is two weeks from the signature date of this notice. All Q&V responses must be filed electronically via ACCESS.

Separate Rates

In order to obtain separate-rate status in an NME investigation, exporters and producers must submit a separate-rate application.⁵³ The specific requirements for submitting a separate-rate application in the PRC investigation are outlined in detail in the application itself, which is available on the Department's Web site at http://enforcement.trade.gov/nme/nme-sep-rate.html. The separate-rate application will be due 30 days after publication of this initiation notice.⁵⁴ Exporters and producers who submit a separate-rate application and have been selected as mandatory respondents will be eligible for consideration for separate-rate status only if they respond to all parts of the Department's AD questionnaire as mandatory respondents. The Department requires that respondents from the PRC submit a response to both the Q&V questionnaire and the separate-rate application by their respective deadlines in order to receive consideration for separate-rate status.

⁵³ See Policy Bulletin 05.1: Separate-Rates Practice and Application of Combination Rates in Antidumping Investigation involving Non-Market Economy Countries (April 5, 2005), available at: http://enforcement.trade.gov/policy/bull05-1.pdf (“Policy Bulletin 05.1”).

⁵⁴ Although in past investigations this deadline was 60 days, consistent with 19 CFR 351.301(a), which states that “the Secretary may request any person to submit factual information at any time during a proceeding,” this deadline is now 30 days.

Use of Combination Rates

The Department will calculate combination rates for certain respondents that are eligible for a separate rate in an NME investigation. The Separate Rates and Combination Rates Bulletin states:

{w}hile continuing the practice of assigning separate rates only to exporters, all separate rates that the Department will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.⁵⁵

⁵⁵ See Policy Bulletin 05.1, at 6.

Distribution of Copies of the Petition

In accordance with section 732(b)(3)(A) of the Act and 19 CFR 351.202(f), copies of the public version of the Petition have been provided to the government of the PRC via ACCESS. To the extent practicable, we will attempt to provide a copy of the public version of the Petition to each exporter named in the Petition, as provided under 19 CFR 351.203(c)(2).

ITC Notification

We will notify the ITC of our initiation, as required by section 732(d) of the Act.

Preliminary Determination by the ITC

The ITC will preliminarily determine, within 45 days after the date on which the Petition was filed, whether there is a reasonable indication that imports of R-134a from the PRC are materially injuring or threatening material injury to a U.S. industry.⁵⁶ A negative ITC determination will result in this investigation being terminated; ⁵⁷ otherwise, this investigation will proceed according to statutory and regulatory time limits.

⁵⁶ See section 733(a) of the Act.

⁵⁷ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, must specify under which subsection of 19 CFR 351.102(b)(21) the information is being submitted ⁵⁸ and, if the information is submitted to rebut, clarify, or correct factual information already on the record, to provide an explanation identifying the information already on the record that the factual information seeks to rebut, clarify, or correct.⁵⁹ Time limits for the submission of factual information are addressed in 19 CFR 351.301, which provides specific time limits based on the type of factual information being submitted. Please review the regulations prior to submitting factual information in these investigations.

⁵⁸ See 19 CFR 351.301(b).

⁵⁹ See 19 CFR 351.301(b)(2).

Extensions of Time Limits

Parties may request an extension of time limits before the expiration of a time limit established under 19 CFR 351, or as otherwise specified by the Secretary. In general, an extension request will be considered untimely if it is filed after the expiration of the time limit established under 19 CFR 351 expires. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.⁶⁰ Parties are hereby reminded that revised certification requirements are in effect for company/government officials, as well as their representatives. Investigations initiated on the basis of petitions filed on or after August 16, 2013, and other segments of any AD or CVD proceedings initiated on or after August 16, 2013, should use the formats for the revised certifications provided at the end of the Certification Final Rule.⁶¹ The Department intends to reject factual submissions if the submitting party does not comply with applicable revised certification requirements.

⁶⁰ See section 782(b) of the Act.

⁶¹ See Certification of Factual Information to Import Administration during Antidumping and Countervailing Duty Proceedings, 78 FR 42678 (July 17, 2013) (“Certification Final Rule”); see also frequently asked questions regarding the Certification Final Rule, available at: http://enforcement.trade.gov/tlei/notices/factual_info_final_rule_FAQ_07172013.pdf.

Notification to Interested Parties

Interested parties must submit applications for disclosure under administrative protective order (“APO”) in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed in 19 CFR 351.103(d)).

This notice is issued and published pursuant to section 777(i) of the Act.

Dated: March 23, 2016.
Paul Piquado,
Assistant Secretary for Enforcement and Compliance.

Appendix I

Scope of the Investigation

The product subject to this investigation is 1,1,1,2-Tetrafluoroethane, R-134a, or its chemical equivalent, regardless of form, type, or purity level. The chemical formula for 1,1,1,2-Tetrafluoroethane is CF3-CH2F, and the Chemical Abstracts Service registry number is CAS 811-97-2.⁶²

⁶² 1,1,1,2-Tetrafluoroethane is sold under a number of trade names including Klea 134a and Zephex 134a (Mexichem Fluor); Genetron 134a (Honeywell); Freon™ 134a, Suva 134a, Dymel 134a, and Dymel P134a (Chemours); Solkane 134a (Solvay); and Forane 134a (Arkema). Generically, 1,1,1,2-Tetrafluoroethane has been sold as Fluorocarbon 134a, R-134a, HFC-134a, HF A-134a, Refrigerant 134a, and UN3159.

Merchandise covered by the scope of this investigation is currently classified in the Harmonized Tariff Schedule of the United States (“HTSUS”) at subheading 2903.39.2020. Although the HTSUS subheading and CAS registry number are provided for convenience and customs purposes, the written description of the scope is dispositive.

[FR Doc. 2016-07316 Filed 3-31-16; 8:45 am]

BILLING CODE 3510-DS-P